DEPARTMENT OF AGRICULTURE

Forest Service

Shoshone National Forest Travel Management; Shoshone National Forest, Wyoming

AGENCY: Forest Service, USDA.

ACTION: Notice of intent to prepare an environmental impact statement.

SUMMARY: The Forest Service intends to prepare an environmental impact statement to analyze and disclose the environmental effects of implementing travel management activities that include designating the class of vehicles, seasons of use, additions, and subtractions to the roads, trails, and areas open for recreational motorized use during summer and winter. The Forest is proposing changes to its Motor Vehicle Use Map (MVUM) and publication of the initial Over Snow Vehicle Use Map (OSVUM) per the requirements of 36 CFR parts 212 Travel Management, Designated Routes and Areas for Motor Vehicle Use, Final Rule (Federal Register 2005: 70 FR 68264).

DATES: Comments concerning the scope of the analysis must be received by June 27, 2016. The draft environmental impact statement is expected March 2017 and the final environmental impact statement is expected March 2018.

ADDRESSES: Send written comments to Rob Robertson, 333 East Main Street, Lander, Wyoming, 82520. Comments may also be sent via email to travel-comments-rocky-mountain-shoshone@fs.fed.us, or via facsimile to 307-332-0264.

FOR FURTHER INFORMATION CONTACT: Rob Robertson at 307-335-2156 or rrobertson@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The overall objective of the proposed action is to provide a manageable system of designated public motor vehicle access routes and areas within the Shoshone National Forest, consistent with the Forest Plan, Executive Orders 11644 and 11989, and the travel management regulations at 36 CFR 212 subparts B and C. The decisions associated with the designations of roads, trails, and areas open to the public will be published in maps for both summer and winter travel.

There were needs identified through the Forest Planning effort to examine the existing system and identify current routes with resource concerns or enforcement issues which could be removed or changed in the system.

• There is a need to provide some level of motorized routes to a growing user group on the Shoshone National Forest. The Forest Plan directs us to look for opportunities to provide “loop” opportunities for motorized use.

• An additional need of equal importance is to ensure or improve compliance and accountability on the existing road and trail system.

• Another need is to consider if there are current routes with resource concerns or enforcement issues which could be removed or changed in the system.

• Finally, there is a need to designate roads, trails, and areas for winter motorized travel and produce an over snow vehicle use map. This direction stems from a recent court decision and a subsequent revision of the 2005 Travel Management Rule.

Additionally, the Regional Forester, in The Record of Decision for the SNF Land Management Plan Revision acknowledged the Forest's recognition of these needs and directed the Shoshone National Forest to analyze additional motorized opportunities during the Travel Management planning process.

Proposed Action

The Shoshone National Forest is proposing to modify its current summer Motorized Vehicle Use Map (MVUM) and publish an Over Snow Motor Vehicle Use Map (OSVUM) to address the need to increase motorized recreation and loop opportunities while addressing concerns over resource conditions, unauthorized routes, and enforcement issues within the current system. The proposal is intended to provide a manageable system of designated public motor vehicle access routes and areas within the Shoshone National Forest, consistent with the Forest Plan, Executive Order 11644, and the travel management regulations at 36 CFR 212, subparts B and C. Specific Changes to the summer system are as follows:

• Addition of 36 miles of motorized routes (roads and motorized trails) to the system.

• Addition of 5.9 miles of motorized routes to access dispersed camping sites.

• Closing 12 miles of roads to address resource and/or enforcement concerns.

• Designate 16 miles of existing motorized trails to 65″ width.

• Designate 13.4 miles of new proposed motorized trails for 65″ width.

• Conversion of 2.1 miles of road to motorized trail, 65″ width.

• Addition of 61 miles of seasonal restrictions to reduce impacts to wildlife disturbance, increase wintertime safety, and protect road surfaces during the wet season.

• Consolidate the number of existing seasonal closure dates to help reduce confusion.

• Addition of 11 miles of ungroomed snowmobile trails.

• Close 1,354 acres of cross country skiing areas to motorized users.

• Prohibit tracked vehicles larger than a UTV from using groomed trails for public safety.

• Create two winter motorized seasons. The “high elevation” zone will have a season of 11/15 to 4/30. The “low elevation” zone will have a season of 12/1-4/1.

Responsible Official

The USDA Forest Service is the lead agency for this proposal. The Shoshone National Forest Supervisor is the responsible official.

Nature of Decision To Be Made

The decision to be made is whether to implement the proposed action as described above, or to meet the purpose and need for action through some other combination of activities, or to take no action at this time.

Scoping Process

This notice of intent initiates the scoping process, which guides the development of the environmental impact statement. Written comments should be submitted to Shoshone National Forest, Attn: Rob Robertson, 333 E. Main St., Lander, WY 82520, or fax: 307-332-0264; or email at travel-comments-rocky-mountain-shoshone@fs.fed.us . Hand-delivered comments must be provided at the Supervisors' office or any of the Ranger District offices during normal business hours (8:00 a.m. to 4:30 p.m., Monday through Friday, excluding holidays).

Electronic comments must be submitted to travel-comments-rocky-mountain-shoshone@fs.fed.us in an email message, or attached in portable document format (.pdf) or Word (.docx) format.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 17, 2016.
Joseph Alexander,
Forest Supervisor.

[FR Doc. 2016-12069 Filed 5-26-16; 8:45 am]

BILLING CODE 3410-11-P